DEPARTMENT OF THE INTERIOR

Geological Survey

[GX.19.GG00.996.00 OMB Control Number 1028-0051/Renewal]

Agency Information Collection Activities; Earthquake Hazards Program Research and Monitoring

AGENCY: U.S. Geological Survey, Interior.

ACTION: Notice of information collection; request for comment.

SUMMARY: In accordance with the Paperwork Reduction Act of 1995, we, the U.S. Geological Survey (USGS) are proposing to renew an information collection as part of our continuing efforts to reduce paperwork and respondent burden. This collection is set to expire on April 30, 2019.

DATES: Interested persons are invited to submit comments on or before April 2, 2019.

ADDRESSES: Send your comments on the information collection request (ICR) by mail to the U.S. Geological Survey, Information Collections Clearance Officer, 12201 Sunrise Valley Drive, MS 159, Reston, VA 20192; or by email to gs-info_collections@usgs.gov. Please reference OMB Control Number 1028-0051 in the subject line of your comments.

FOR FURTHER INFORMATION CONTACT: To request additional information about this ICR, contact Jill M. Franks, by email at jfranks@usgs.gov or by telephone at 703-648-6716.

SUPPLEMENTARY INFORMATION: In accordance with the Paperwork Reduction Act of 1995, we provide the general public and other Federal agencies with an opportunity to comment on proposed, revised, and continuing collections of information. This helps us assess the impact of our information collection requirements and minimize the public's reporting burden. It also helps the public understand our information collection requirements and provide the requested data in the desired format.

We are soliciting comments on the proposed ICR that is described below. We are especially interested in public comment addressing the following issues: (1) Is the collection necessary to the proper functions of the USGS; (2) will this information be processed and used in a timely manner; (3) is the estimate of burden accurate; (4) how might the USGS enhance the quality, utility, and clarity of the information to be collected; and (5) how might the USGS minimize the burden of this collection on the respondents, including through the use of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Abstract: Research and monitoring findings are essential to fulfilling the U.S. Geological Survey's (USGS) responsibility under the Earthquake Hazards Reduction Act to develop earthquake hazard assessments and record earthquake activity nationwide. Residents, emergency responders, and engineers rely on the USGS for this accurate and scientifically sound information. The USGS Earthquake Hazards Program funds external investigators to carry out these important activities. In response to our Program Announcements, investigators submit proposals for research and monitoring activities on earthquake hazard assessments, earthquake causes and effects, and earthquake monitoring. This information is used as the basis for selection and award of projects meeting the USGS's Earthquake Hazards Program objectives. Final reports of research and monitoring findings are required for each funded proposal; annual progress reports are required for awards of a two- to five-year duration. Final reports are made available to the public at the website http://earthquake.usgs.gov/research/external/.

Title of Collection: Earthquake Hazards Program Research and Monitoring.

OMB Control Number: 1028-0051.

Form Number: None.

Type of Review: Extension of a currently approved collection.

Respondents/Affected Public: Research scientists, engineers, and the general public.

Total Estimated Number of Annual Respondents: 370.

Total Estimated Number of Annual Responses: 370 in total, consisting of 250 applications and narratives and 120 final and annual reports.

Estimated Completion Time per Response: 45 hours per proposal application response and 12 hours per final or annual progress report.

Total Estimated Number of Annual Burden Hours: 12,450 (11,250 hours per application and 1,200 hours per final or annual progress report).

Respondent's Obligation: Final reports of research and monitoring findings are required to obtain future awards. Annual progress reports for multi-year awards are required to obtain funding for the following year.

Frequency of Collection: Final reports are required once at the end of the awards period of performance. Progress reports are required annually for awards of a two- to five-year duration.

Total Estimated Annual Non-hour Burden Cost: There are no “non-hour cost” burdens associated with this IC.

An agency may not conduct or sponsor and a person is not required to respond to a collection of information unless it displays a currently valid OMB control number.

The authorities for this action are the Paperwork Reduction Act of 1995 (44 U.S.C. 3501, et seq.).

Trent Richardson,
Deputy Associate Director, Natural Hazards Mission Area.

[FR Doc. 2019-00607 Filed 1-31-19; 8:45 am]

BILLING CODE 4338-11-P